DEPARTMENT OF HEALTH AND HUMAN SERVICES

Office of Inspector General

Publication of OIG Updated Special Fraud Alert on Telemarketing by Durable Medical Equipment Suppliers

AGENCY: Office of Inspector General (OIG), HHS.

ACTION: Notice; correction.

SUMMARY: This document sets forth a correction to the OIG Federal Register notice published on January 10, 2010 (75 FR 2105), addressing our recently issued Updated Special Fraud Alert. Specifically, the Updated Special Fraud Alert addressed the statutory provision prohibiting durable medical equipment suppliers from making unsolicited telephone calls to Medicare beneficiaries regarding the furnishing of a covered item. An inadvertent error appeared on the heading line in section II of that document regarding the final issuance date of the notice. Accordingly, we are correcting that issuance date to ensure technical correctness of that document.

FOR FURTHER INFORMATION CONTACT: James A. Cannatti III, Senior Counsel, Office of Counsel to the Inspector General, (202) 205-0007.

SUPPLEMENTARY INFORMATION: In our publication of the OIG Updated Special Fraud Alert on Telemarketing by Durable Medical Equipment Suppliers, an inadvertent error appeared on the heading for section II on page 2105 regarding the final issuance date of the Updated Special Fraud Alert. The heading incorrectly indicated the issuance date as November 2009. The correct issuance date of this Updated Special Fraud Alert should read as January 2010.

Dated: May 5, 2010.
Daniel R. Levinson,
Inspector General.

[FR Doc. 2010-11163 Filed 5-10-10; 8:45 am]

BILLING CODE 4152-01-P